NUCLEAR REGULATORY COMMISSION

Notice of Issuance of Draft NUREG for Public Comment

AGENCY: Nuclear Regulatory Commission.

ACTION: Notice of issuance of Draft NUREG for public comment.

SUMMARY: The Nuclear Regulatory Commission is issuing Draft NUREG-1761 “Radiological Surveys for Controlling Release of Solid Materials” for public comment for a 90-day period. Copies of the Draft NUREG report can be obtained through the NRC homepage address: http:///www.nrc.gov/reading-rm/doc-collections/nuregs/staff/.

FOR FURTHER INFORMATION CONTACT: George E. Powers; e-mail: gep@nrc.gov telephone: (301) 415-6212; Office of Nuclear Regulatory Research, Mail Stop T-9F31, USNRC, Washington DC 20555-0001.

SUPPLEMENTARY INFORMATION: The U.S. Nuclear Regulatory Commission (NRC) has issued Draft NUREG-1761 “Radiological Surveys for Controlling Release of Solid Materials” for a 90-day public comment period. The report was prepared by the NRC technical staff with input from the Oak Ridge Institute for Science and Education (ORISE), staff of the U.S. Department of Energy, the Environmental Measurements Laboratory (EML), and Oak Ridge National Laboratory (ORNL). The NRC staff is developing a technical basis to support decisions on the control of slightly contaminated solid materials. Specifically, the solid materials being evaluated include metals, building concrete, onsite soils, equipment, furniture, and other solid materials, which are present at, and/or used in, licensed nuclear facilities during routine operations. This draft report provides information about measuring residual radioactivity in materials that are to be cleared from nuclear facilities, including guidance about designing, performing, and documenting radiological surveys of solid materials (including characterization practices and measurement protocols).

Information received through the public comment process will be considered in revising NUREG-1761 before publication in final form. Specifically, the NRC staff is seeking information through comments on the Draft NUREG regarding the optimization of surveys through the use of standard and advanced instrumentation and analytical methods.

Information on the Draft NUREG for public comment can be accessed using the following NRC homepage address: http:///www.nrc.gov/reading-rm/doc-collections/nuregs/staff/ or by notifying the NRC staff contact, George E. Powers.

Dated at Rockville, Maryland, this 21st day of August 2002.
For the Nuclear Regulatory Commission.
William R. Ott,
Acting Chief, Radiation Protection, Environmental Risk and Waste Management Branch, Division of Risk Assessment and Applications, Office of Nuclear Regulatory Research.

[FR Doc. 02-21884 Filed 8-27-02; 8:45 am]

BILLING CODE 7590-01-P